ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by Puerto Rico.

DATES: This notice is effective upon publication in the Federal Register.

FOR FURTHER INFORMATION CONTACT: Bryan Whitener, Telephone 202-566-3100 or 1-866-747-1471 (toll-free).

Submit Comments: Any comments regarding the plans published herewith should be made in writing to Mr. Aurelio Gracia Morales, President, Puerto Rico Elections Commission, P.O. Box 195552, San Juan, Puerto Rico 00919-5552, phone: 787-777-8678, Fax: 787-777-8680.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The submission from Puerto Rico addresses material changes to the original State plan, among which are changes in the use of the HAVA requirements payments expected, but not yet received, by the State. In accordance with HAVA section 254(a)(12), the document also provides information on how the State succeeded in carrying out the previous State plan.

Upon the expiration of 30 days from January 24, 2005, Puerto Rico will be eligible to implement any material changes addressed in the State plan published herein, in accordance with HAVA section 254(a)(11)(C). At that time, Puerto Rico also will be eligible to receive its 2003 and 2004 requirements payments, for which the State recently filed a certification under HAVA section 253.

EAC notes that the plan published herein has already met the notice and comment requirements of HAVA section 256, as required by HAVA section 254(a)(11)(B). EAC wishes to acknowledge the effort that went into revising the State plan and encourages further public comment, in writing, to the chief election official of Puerto Rico.

Thank you for your interest in improving the voting process in America.

Dated: January 13, 2005.
Gracia Hillman,
Chair, U.S. Election Assistance Commission.

BILLING CODE 6820-YN-P

[FR Doc. 05-1064 Filed 1-21-05; 8:45 am]

BILLING CODE 6820-YN-C